DEPARTMENT OF JUSTICE

Antitrust Division

Notice Pursuant to the National Cooperative Research and Production Act of 1993—Cooperative Research Group on Separation Technology Research (Star) Program: Phase 3 (Star Phase 3)

Notice is hereby given that, on January 9, 2024, pursuant to Section 6(a) of the National Cooperative Research and Production Act of 1993, 15 U.S.C. 4301 et seq. (“the Act”), Southwest Research Institute—Cooperative Research Group Separation Technology Research (STAR) Program: Phase 3 (STAR Phase 3) has filed written notifications simultaneously with the Attorney General and the Federal Trade Commission disclosing changes in its membership. The notifications were filed for the purpose of extending the Act's provisions limiting the recovery of antitrust plaintiffs to actual damages under specified circumstances. Specifically, Schlumberger Norge AS, Stavanger, NORWAY, has been added as a party to this venture.

No other changes have been made in either the membership or planned activity of the group research project. Membership in this group research project remains open and STAR Phase 3 intends to file additional written notifications disclosing all changes in membership or planned activities.

On August 15, 2023, STAR Phase 3 filed its original notification pursuant to Section 6(a) of the Act. The Department of Justice published a notice in the Federal Register pursuant to Section 6(b) of the Act on October 6, 2023, (88 FR 69671).

Suzanne Morris,
Deputy Director Civil Enforcement Operations, Antitrust Division.

[FR Doc. 2024-05311 Filed 3-12-24; 8:45 am]

BILLING CODE 4410-11-P